INTERNATIONAL TRADE COMMISSION

[Investigation Nos. 701-TA-636 and 731-TA-1469-1470 (Preliminary)]

Wood Mouldings and Millwork Products From Brazil and China

Determinations

On the basis of the record ¹ developed in the subject investigations, the United States International Trade Commission (“Commission”) determines, pursuant to the Tariff Act of 1930 (“the Act”), that there is a reasonable indication that an industry in the United States is materially injured by reason of imports of wood mouldings and millwork products from Brazil and China that are alleged to be sold in the United States at less than fair value (“LTFV”) and imports of wood mouldings and millwork products from China that are allegedly subsidized by the government of China.² ³ The products subject to these investigations are primarily provided for in subheadings 4409.10.40, 4409.10.45, 4409.10.50, 4409.22.40, 4409.22.50, 4409.29.41, and 4409.29.51 of the Harmonized Tariff Schedule of the United States (“HTS”).

¹ The record is defined in sec. 207.2(f) of the Commission's Rules of Practice and Procedure (19 CFR 207.2(f)).

² Wood Mouldings and Millwork Products from Brazil and the People's Republic of China: Initiation of Less-Than-Fair-Value Investigations, 85 FR 6502 (February 5, 2020); Wood Mouldings and Millwork Products from the People's Republic of China: Initiation of Countervailing Duty Investigation, 85 FR 6513 (February 5, 2020).

³ Commissioner Stayin not participating.

Commencement of Final Phase Investigations

Pursuant to section 207.18 of the Commission's rules, the Commission also gives notice of the commencement of the final phase of its investigations. The Commission will issue a final phase notice of scheduling, which will be published in the Federal Register as provided in section 207.21 of the Commission's rules, upon notice from the U.S. Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On January 8, 2020, the Coalition of American Millwork Producers ⁴ filed petitions with the Commission and Commerce, alleging that an industry in the United States is materially injured or threatened with material injury by reason of subsidized imports of wood mouldings and millwork products from China and LTFV imports of wood mouldings and millwork products from Brazil and China. Accordingly, effective January 8, 2020, the Commission instituted countervailing duty investigation No. 701-TA-636 and antidumping duty investigation Nos. 731-TA-1469-1470 (Preliminary).

⁴ The Coalition of American Millwork Producers is comprised of Bright Wood Corporation, Madras, Oregon; Cascade Wood Products, Inc., White City, Oregon; Endura Products, Inc., Colfax, North Carolina; Sierra Pacific Industries, Red Bluff, California; Sunset Moulding, Live Oak, California; Woodgrain Millwork Inc., Fruitland, Idaho; and Yuba River Moulding, Yuba City, California.

Notice of the institution of the Commission's investigations and of a public conference to be held in connection therewith was given by posting copies of the notice in the Office of the Secretary, U.S. International Trade Commission, Washington, DC, and by publishing the notice in the Federal Register of January 15, 2020 (85 FR 2438). The conference was held in Washington, DC, on January 29, 2020, and all persons who requested the opportunity were permitted to appear in person or by counsel.

The Commission made these determinations pursuant to sections 703(a) and 733(a) of the Act (19 U.S.C. 1671b(a) and 1673b(a)). It completed and filed its determinations in these investigations on February 24, 2020. The views of the Commission are contained in USITC Publication 5030 (March 2020), entitled Wood Mouldings and Millwork Products from Brazil and China: Investigation Nos. 701-TA-636 and 731-TA-1469-1470 (Preliminary).

By order of the Commission.
Issued: February 24, 2020.
William Bishop,
Supervisory Hearings and Information Officer.

[FR Doc. 2020-04010 Filed 2-26-20; 8:45 am]

BILLING CODE 7020-02-P